DEPARTMENT OF HOMELAND SECURITY

U.S. Customs and Border Protection

[Docket No. USCBP-2014-0035]

Advisory Committee on Commercial Operations of U.S. Customs and Border Protection (COAC)

AGENCY: U.S. Customs and Border Protection, Department of Homeland Security (DHS).

ACTION: Committee Management; Notice of Federal Advisory Committee Meeting.

SUMMARY: The Advisory Committee on Commercial Operations of U.S. Customs and Border Protection (COAC) will meet on February 11, 2015, in San Francisco, CA. The meeting will be open to the public.

DATES: The Advisory Committee on Commercial Operations of U.S. Customs and Border Protection (COAC) will meet on Wednesday, February 11, 2015, from 8:00 a.m. to 12:00 p.m. PST. Please note that the meeting may close early if the committee has completed its business.

Pre-Registration: Meeting participants may attend either in person or via webinar after pre-registering using a method indicated below:

• For members of the public who plan to attend the meeting in person, please register either online at https://apps.cbp.gov/te_reg/index.asp?w=34; by email to tradeevents@dhs.gov; or by fax to 202-325-4290 by 5:00 p.m. EST on February 6, 2015. You must register prior to the meeting in order to attend the meeting in person.

• For members of the public who plan to participate via webinar, please register online at https://apps.cbp.gov/te_reg/index.asp?w=35 by 5:00 p.m. EST on February 6, 2015.

Feel free to share this information with other interested members of your organization or association.

Members of the public who are pre-registered and later require cancellation, please do so in advance of the meeting by accessing one (1) of the following links: https://apps.cbp.gov/te_reg/cancel.asp?w=34 to cancel an in person registration, or https://apps.cbp.gov/te_reg/cancel.asp?w=35 to cancel a webinar registration.

ADDRESSES: The meeting will be held at the Embassy Suites San Francisco Airport-South San Francisco at 250 Gateway Boulevard, Grand Ballroom, San Francisco, CA 94080.

All visitors to the Embassy Suites Hotel should proceed through the main lobby to the Grand Ballroom. There will be signage posted directing visitors to the location of the Grand Ballroom.

For information on facilities or services for individuals with disabilities or to request special assistance at the meeting, contact Ms. Wanda Tate, Office of Trade Relations, U.S. Customs and Border Protection at (202) 344-1661 as soon as possible.

To facilitate public participation, we are inviting public comment on the issues to be considered by the committee prior to the formulation of recommendations as listed in the “Agenda” section below.

Comments must be submitted in writing no later than February 4, 2015, and must be identified by Docket No. USCBP-2014-0035, and may be submitted by one of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket or to read background documents or comments, go to http://www.regulations.gov and search for Docket Number USCBP-2014-0035. To submit a comment, see the link on the Regulations.gov Web site for “How do I submit a comment?” located on the right hand side of the main site page.

There will be multiple public comment periods held during the meeting on February 11, 2015. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

SUPPLEMENTARY INFORMATION: Notice of this meeting is given under the Federal Advisory Committee Act, 5 U.S.C. Appendix. The Advisory Committee on Commercial Operations of U.S. Customs and Border Protection (COAC) provides advice to the Secretary of Homeland Security, the Secretary of the Treasury, and the Commissioner of U.S. Customs and Border Protection (CBP) on matters pertaining to the commercial operations of CBP and related functions within Department of Homeland Security and the Department of the Treasury.

Agenda

The Advisory Committee on Commercial Operations of U.S. Customs and Border Protection (COAC) will hear from the following project leaders and subcommittees on the topics listed below and then will review, deliberate, provide observations, and formulate recommendations on how to proceed on those topics:

1. The Exports Subcommittee: Review and discuss the status of the Air Manifest sub-work group and the findings of the Commodity Licensing sub-work group, which represents two of the seven planned sub-workgroups formed under the Export Process Work Group (EPWG), and the continued collaboration between the Bureau of Industry and Security's Federal Advisory Committee, the President's Export Council Subcommittee on Export Administration (PECSEA).

2. The One U.S. Government at the Border (1USG) Subcommittee: Review, discuss findings and present recommendations of the Process and Messaging Working Group. Update to COAC on the Status of U.S. Government Hold Authority. Subcommittee Closeout Report and update on status of 13th Term recommendations.

3. The Trade Enforcement and Revenue Collection Subcommittee: Update and present a recommendation of the Intellectual Property Rights (IPR) Voluntary Disclosure working group, present recommendations of the Anti-Dumping/Countervailing Duty (AD/CVD) Working Group, and report on the Bonds Working Group's discussions on e-bonds.

4. The Trusted Trader Subcommittee: Update and discuss the Customs-Trade Partnership Against Terrorism (C-TPAT) Exporter Entity and the Trusted Trader Program pilot.

5. The Trade Modernization Subcommittee: Updates and discussion on Automated Commercial Environment (ACE), Centers of Excellence and Expertise, as well as Role of the Customs Broker activities will take place. Recommendations are expected to be presented regarding CBP regulating how Customs Brokers can confirm the bonafide nature of an importer, what metrics CBP can report regarding the deployment of Centers of Excellence and Expertise, and recommendations regarding the development of a Simplified Entry Summary.

6. The Global Supply Chain Subcommittee: Updates and discussion regarding the Beyond the Border activities with Canada and 21st Century activities with Mexico will take place.

Dated: January 15, 2015.
Maria Luisa Boyce,
Senior Advisor for Private Sector Engagement, Office of Trade Relations.

[FR Doc. 2015-00874 Filed 1-20-15; 8:45 am]

BILLING CODE 9111-14-P